FEDERAL ELECTION COMMISSION

Sunshine Act Meeting

Date & Time: Wednesday, November 14, 2007 at 10 a.m.

Place: 999 E Street, NW., Washington, DC.

Status: This meeting will be closed to the public.

Items To Be Discussed

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date & Time: Thursday, November 15, 2007 at 10 a.m.

Place: 999 E Street, NW., Washington, DC.

Status: This hearing will be open to the public.

Matters Before the Commission

Notice of proposed rulemaking for candidate travel.

Date & Time: Thursday, November 15, 2007, Open Meeting to be held at the conclusion of the hearing.

Place: 999 E Street, NW., Washington, DC (Ninth Floor).

Status: This meeting will be open to the public.

Items To Be Discussed

Correction and Approval of Minutes.

Advisory Opinion 2007-19: Renaissance Health Service Corporation, by counsel, Timothy Sawyer Knowlton.

Agency Strategic Plan FY 2008-2013.

Management and Administrative Matters.

Person to Contact for Information: Mr. Robert Biersack, Press Officer, Telephone: (202) 694-1220.

Mary W. Dove,
Secretary of the Commission.

[FR Doc. 07-5631 Filed 11-7-07; 12:43 pm]

BILLING CODE 6715-01-M